DEPARTMENT OF TRANSPORTATION

Federal Railroad Administration

[Docket Number FRA-2002-14084]

Petition for Waiver of Compliance

Under Part 211 of Title 49 Code of Federal Regulations (CFR), this provides the public notice that on August 29, 2017, the San Luis Central Railroad (SLC) petitioned the Federal Railroad Administration (FRA) for a waiver of compliance from certain provisions of the Federal railroad safety regulations contained at 49 CFR part 223. FRA assigned the petition docket number FRA-2002-14084.

Specifically, the SLC seeks to renew an existing waiver of compliance from the glazing regulations in 49 CFR 223.11, Requirements for existing locomotives, for two locomotives, identified as SLC 70 and SLC 71. The SLC is located in Monte Vista, Colorado, and operates a short line railroad with yard limits of 13 miles. Both locomotives operate at a speed not exceeding 10 miles per hour. Both locomotives are presently equipped with laminated tinted glass with 0.030″ lamination and an AS-1 rating. The SLC represents that the locomotives and glazing are in good condition, and there is no record of vandalism on SLC property.

Since SLC's original waiver was granted in 2003, there have been no accidents, incidents, or injuries to employees that involved the window glazing of locomotives SLC 70 and SLC 71.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 18, 2017 will be considered by FRA before final action is taken. Comments received after that date will be considered if practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.transportation.gov/privacy. See also http://www.regulations.gov/privacyNotice for the privacy notice of regulations.gov.

Robert C. Lauby,
Associate Administrator for Railroad Safety, Chief Safety Officer.

[FR Doc. 2017-19682 Filed 9-15-17; 8:45 am]

BILLING CODE 4910-06-P